COMMITTEE FOR THE IMPLEMENTATION OF TEXTILE AGREEMENTS

Determination under the Textile and Apparel Commercial Availability Provision of the Dominican Republic-Central America-United States Free Trade Agreement (CAFTA-DR Agreement)

February 10, 2009.

AGENCY: The Committee for the Implementation of Textile Agreements.

ACTION: Determination to add a product in unrestricted quantities to Annex 3.25 of the CAFTA-DR Agreement.

EFFECTIVE DATE: February 17, 2009.

SUMMARY: The Committee for the Implementation of Textile Agreements (CITA) has determined that certain woven modal-polyester fabric, as specified below, is not available in commercial quantities in a timely manner in the CAFTA-DR countries. The product will be added to the list in Annex 3.25 of the CAFTA-DR Agreement in unrestricted quantities.

FOR FURTHER INFORMATION CONTACT: Maria Dybczak, Office of Textiles and Apparel, U.S. Department of Commerce, (202) 482-3651.

FOR FURTHER INFORMATION ON-LINE: http://web.ita.doc.gov/tacgi/CaftaReqTrack.nsf. Reference number: 102.2009.01.02.Fabric.SoriniSamet forBWA.

SUPPLEMENTARY INFORMATION:

Authority: Section 203(o)(4) of the Dominican Republic-Central America-United States Free Trade Agreement Implementation Act (CAFTA-DR Act); the Statement of Administrative Action (SAA), accompanying the CAFTA-DR Act; Presidential Proclamations 7987 (February 28, 2006) and 7996 (March 31, 2006).

BACKGROUND:

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25, Note; see also section 203(o)(4)(C) of the CAFTA-DR Act.

The CAFTA-DR Act requires the President to establish procedures governing the submission of a request and providing opportunity for interested entities to submit comments and supporting evidence before a commercial availability determination is made. In Presidential Proclamations 7987 and 7996, the President delegated to CITA the authority under section 203(o)(4) of CAFTA-DR Act for modifying the Annex 3.25 list. On September 15, 2008, CITA published modified procedures it would follow in considering requests to modify the Annex 3.25 list (Modifications to Procedures for Considering Requests Under the Commercial Availability Provision of the Dominican Republic-Central America-United States Free Trade Agreement, 73 FR 53200, September 15, 2008) (“Procedures”).

On January 2, 2009, the Chairman of CITA received a request for a commercial availability determination (“Request”) under the CAFTA-DR from Sorini, Samet & Associates LLC, on behalf of BWA, for certain woven modal-polyester fabric. On January 6, 2009, in accordance with CITA's Procedures, CITA notified interested parties of the Request and posted the Request on the dedicated website for CAFTA-DR Commercial Availability proceedings. In its notification, CITA advised that any Response with an Offer to Supply (“Response”) must be submitted by January 16, 2009, and any Rebuttal be submitted by January 26, 2009. No interested entity submitted a Response advising CITA of its objection to the Request and its ability to supply the subject product.

In accordance with section 203(o)(4)(C) of the CAFTA-DR Act, and CITA's Procedures, as no interested entity submitted a Response objecting to the Request and demonstrating its ability to supply the subject product, CITA has determined to add the specified fabric to the list in Annex 3.25 of the CAFTA-DR Agreement.

The subject product has been added to the list in Annex 3.25 of the CAFTA-DR Agreement in unrestricted quantities. A revised list has been posted on the dedicated website for CAFTA-DR Commercial Availability proceedings.

Specifications: Certain Woven Modal-Polyester Fabric
HTS: 5516.12; 5516.13; 5516.22; 5516.23
Fiber Content: 52% - 95% spun modal rayon; 5% - 48% filament polyester
Yarn Size (metric):
Spun Modal Rayon - 44/1 to 88/1
Filament Polyester - 59 to 92
Thread Count (metric): 31 to 53 warp ends per cm; 27 to 36 filling picks per cm
Weave: Plain
Weight: 100 - 300 grams per sq. meter
Width: 137 to 153 cm
Coloration: Piece dyed or yarns of different colors
Finishing Process: Wicked, UV blocker, peached, sanded wash, stain-resistant, and teflon finish
NOTE: In the finishing process, in the event that the polyester filament content breaks and turns into fibers, the finished fabric's specifications may fall under HTS classifications 5516.92 and 5516.93, for woven fabrics of artificial staple fiber.

Janet E. Heinzen,
Acting Chairman, Committee for the Implementation of Textile Agreements.

[FR Doc. E9-3292 Filed 2-13-09; 8:45 am]

BILLING CODE 3510-DS